DEPARTMENT OF THE INTERIOR

Bureau of Land Management

[NV-952-1420-BJ]

Filing of Plats of Survey; Nevada

AGENCY: Bureau of Land Management.

ACTION: Notice.

SUMMARY: The purpose of this notice is to inform the public and interested State and local government officials of the filing of Plats of Survey in Nevada.

EFFECTIVE DATES: Filing is effective at 10:00 a.m. on the dates indicated below.

FOR FURTHER INFORMATION CONTACT: Mary J.M. Hartel, Acting Chief, Branch of Geographic Services, Bureau of Land Management (BLM), Nevada State Office, 1340 Financial Blvd., P.O. Box 12000, Reno, Nevada 89520, 775-861-6541.

SUPPLEMENTARY INFORMATION: 1. The Supplemental Plats of the following described lands were officially filed at the Nevada State Office, Reno, Nevada on May 11, 2000:

The supplemental plat, showing amended lottings in sections 13, 23 and 24, Township 19 South, Range 61 East, Mount Diablo Meridian, Nevada, was accepted May 9, 2000. The supplemental plat, showing amended lottings in sections 15, 16 and 21, Township 19 South, Range 61 East, Mount Diablo Meridian, Nevada, was accepted May 9, 2000.

The supplemental plat, showing amended lottings in sections 17, 18, 19 and 20, Township 19 South, Range 61 East, Mount Diablo Meridian, Nevada, was accepted May 9, 2000.

These plats were prepared to meet certain administrative needs of the Bureau of Land Management.

2. The Plat of Survey of the following described lands was officially filed at the Nevada State Office, Reno, Nevada on May 11, 2000:

The plat, representing the dependent resurvey of a portion of the west boundary and a portion of the subdivisional lines, and the subdivision of section 18, Township 19 South, Range 62 East, Mount Diablo Meridian, Nevada, under Group 780, was accepted May 9, 2000.

This survey was executed to meet certain administrative needs of the Bureau of Land Management.

3. The Supplemental Plat of the following described lands was officially filed at the Nevada State Office, Reno, Nevada on July 24, 2000: The supplemental plat, showing a subdivision of original lot 1, section 5, Township 20 South, Range 60 East, Mount Diablo Meridian, Nevada, was accepted July 21, 2000.

This plat was prepared to meet certain administrative needs of the Bureau of Land Management and Clark County.

4. The Plat of Survey of the following described lands was officially filed at the Nevada State Office, Reno, Nevada on July 24, 2000:

The plat, representing the entire survey record of the dependent resurvey of a portion of the northerly right-of-way line of Lake Mead Drive and a metes-and-bounds survey in section 34, Township 21 South, Range 63 East, Mount Diablo Meridian, Nevada, under Group 787, was accepted July 21, 2000.

This survey was executed to meet certain administrative needs of the Bureau of Land Management.

5. The Plat of Survey of the following described lands was officially filed at the Nevada State Office, Reno, Nevada on September 25, 2000:

The plat, in 9 sheets, representing the dependent resurvey of a portion of the subdivisional lines, and portions of certain mineral surveys, and the subdivision of section 9, and the metes-and-bounds surveys of a portion of Nevada State Highway No. 374 and Tract 37, Township 12 South, Range 46 East, Mount Diablo Meridian, Nevada, under Group 774, was accepted September 22, 2000.

This survey was executed to meet certain administrative needs of the Bureau of Land Management and Barrick Bullfrog Inc.

6. The above-listed surveys are now the basic record for describing the lands for all authorized purposes. These surveys have been placed in the open files in the BLM Nevada State Office and are available to the public as a matter of information. Copies of the surveys and related field notes may be furnished to the public upon payment of the appropriate fees.

Dated: October 17, 2000.
Mary J.M. Hartel,
Acting Chief Cadastral Surveyor, Nevada.

[FR Doc. 00-28068 Filed 11-1-00; 8:45 am]

BILLING CODE 4310-HC-M